DEPARTMENT OF LABOR

Employment and Training Administration

[TA-W-59,163]

Lending Textile Company Inc., Williamsport, PA; Notice of Termination of Investigation

Pursuant to section 221 of the Trade Act of 1974, as amended, an investigation was initiated on April 5, 2006 in response to a petition filed by a company official on behalf of workers at Lending Textile Company Inc., Williamsport, Pennsylvania.

The petitioner has requested that the petition be withdrawn. Consequently, the investigation has been terminated.

Signed at Washington, DC this 10th day of April, 2006.
Linda G. Poole,
Certifying Officer, Division of Trade Adjustment Assistance.

[FR Doc. E6-6100 Filed 4-21-06; 8:45 am]

BILLING CODE 4510-30-P